ENVIRONMENTAL PROTECTION AGENCY

[OPP-50877; FRL-6758-8]

Issuance of Experimental Use Permits

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: By mail: Biopesticides and Pollution Prevention Division (7511C), Office of Pesticide Programs, Environmental Protection Agency, 1200 Pennsylvania Ave., NW., Washington, DC 20460.

In person or by telephone: Contact the designated person at the following address at the office location, telephone number, or e-mail address cited in the experimental use permit: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUP:

064500-EUP-1. Issuance. U.S. Department of Agriculture, Agricultural Research Service, Pacific West Area (PWA), Department of Plant Pathology, University of California, One Shield Ave., Davis, CA 95616. This experimental use permit allows the use of 25 gallons of the biochemical pesticide sucrose octanoate esters on 50 acres of grapevines to evaluate the control of glassy-winged sharpshooter during post harvest. The program is authorized only in the State of California. The experimental use permit is effective from September 15, 2000 to December 15, 2000. This is a non-crop destruct EUP. (S. Diana Hudson; Rm. 910, Crystal Mall #2; telephone number: (703) 308-8713; e-mail address: hudson.diana@epa.gov).

Persons wishing to review the EUP are referred to the designated contact person. Inquiries concerning the permit should be directed to the person cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: November 29, 2000.
Janet L. Andersen,
Director, Biopesticides and Pollution Prevention Division, Office of Pesticide Programs.

[FR Doc. 00-31059 Filed 12-5-00; 8:45 am]

BILLING CODE 6560-50-S